DEPARTMENT OF THE INTERIOR

Fish and Wildlife Service

[FWS-R2-ES-2010-N138; 20124-1113-0000-F5]

Emergency Exemption; Issuance of Emergency Permit to Rehabilitate Sea Turtles Affected by the Deepwater Horizon Oil Spill, Gulf of Mexico

AGENCY: Fish and Wildlife Service, Interior.

ACTION: Notice of issuance of endangered species emergency permit.

SUMMARY: On April 20, 2010, a massive oil spill occurred as a result of the Deepwater Horizon drilling rig explosion in the Gulf of Mexico. The oil spill continues to threaten the Gulf of Mexico environment and its inhabitants, including five sea turtle species. We, the U.S. Fish and Wildlife Service have authorized Texas State Aquarium, under an Endangered Species Act (ESA) permit, to aid sea turtles affected by the oil spill.

ADDRESSES: Documents and other information concerning the permit are available for review, subject to the requirements of the Privacy Act and Freedom of Information Act. Documents will be available for public inspection, by appointment only, during normal business hours at the U.S. Fish and Wildlife Service, 500 Gold Ave., SW., Room 6034, Albuquerque, NM 87103.

FOR FURTHER INFORMATION CONTACT: Susan Jacobsen, Chief, Endangered Species Division, P.O. Box 1306, Albuquerque, NM 87103; (505) 248-6920.

SUPPLEMENTARY INFORMATION: On April 20, 2010, a massive, oil spill occurred as a result of the Deepwater Horizon drilling rig explosion in the Gulf of Mexico off the State of Louisiana, near the Mississippi River Delta. The oil spill continues to threaten the Gulf of Mexico environment and its inhabitants, including the following five species of sea turtles: The green sea turtle (Chelonia mydas), hawksbill sea turtle (Eretmochelys imbricata), Kemp's ridley sea turtle (Lepidochelys kempii), leatherback sea turtle (Dermochelys coriacea), and loggerhead sea turtle (Caretta caretta).

We, the U.S. Fish and Wildlife Service (Service) have authorized Texas State Aquarium, under an Endangered Species Act (ESA) section 10(c) permit (TE794593), to aid sea turtles affected by the Deepwater Horizon oil spill. Efforts to rehabilitate the turtles are currently taking place and will continue to be an ongoing process until we are satisfied that the sea turtles no longer need rehabilitation.

Rehabilitation may include the following activities: Examine and document stranded sea turtles; aid with holding/restraining live turtles while others permitted rush to the scene, examine tags, apply tags, collect data/specimens, or attach satellite transmitters; examine for tags and tag live sea turtles; transport live and dead sea turtles to rehabilitation facilities, satellite transmitter attachment sites, and necropsy sites and necropsy dead sea turtles and collect samples; examine gut contents from dead sea turtles; attach satellite transmitters to nesting Kemp's ridley turtles; locate egg chambers and retrieve eggs for protected incubation; provide care for incubating sea turtle eggs; release hatchling sea turtles; examine unhatched eggs and collect tissue/gonad samples; capture juvenile sea turtles in nets and collect associated data; collect blood samples from stranded, nesting, and captured sea turtles; and collect small tissue samples from live stranded, nesting, and captured sea turtles.

Authority: 16 U.S.C. 1531 et seq.

Dated: August 3, 2010.
Joy E. Nicholopoulos,
Regional Director, Southwest Region, Fish and Wildlife Service.

[FR Doc. 2010-19557 Filed 8-6-10; 8:45 am]

BILLING CODE 4310-55-P